NUCLEAR REGULATORY COMMISSION

[NRC-2024-0188]

NUREG: Report on Waste Burial Charges: Changes in Decommissioning Waste Disposal Costs at Low-Level Waste Burial Facilities

AGENCY: Nuclear Regulatory Commission.

ACTION: Final report; issuance.

SUMMARY: The U.S. Nuclear Regulatory Commission (NRC) is issuing NUREG-1307, Revision 20, “Report on Waste Burial Charges: Changes in Decommissioning Waste Disposal Costs at Low-Level Waste Burial Facilities.” This report, which is revised periodically, explains the formula acceptable to the NRC for determining the minimum decommissioning fund requirements for nuclear power reactor licensees, as required by NRC regulations. Specifically, this report provides the adjustment factor and updates the values for the labor, energy, and waste burial escalation factors of the minimum formula.

DATES: NUREG-1307, Revision 20 is available on February 18, 2025.

ADDRESSES: Please refer to Docket ID NRC-2024-0188 when contacting the NRC about the availability of information regarding this document. You may obtain publicly available information related to this document using any of the following methods:

• Federal Rulemaking Website: Go to https://www.regulations.gov and search for Docket ID NRC-2024-0188. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1307, Revision 20, “Report on Waste Burial Charges: Changes in Decommissioning Waste Disposal Costs at Low-Level Waste Burial Facilities,” is available in ADAMS under Accession No. ML25037A226.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Emil Tabakov, Office of Nuclear Material Safety and Safeguards, U.S. Nuclear Regulatory Commission, Washington, DC 20555-0001; telephone: 301-415-6814; email: Emil.Tabakov@nrc.gov.

SUPPLEMENTARY INFORMATION:

I. Discussion

Pursuant to section 50.75 of title 10 of the Code of Federal Regulations (10 CFR), “Reporting and recordkeeping for decommissioning planning,” the NRC requires nuclear power reactor licensees to adjust annually, in current year dollars, their estimate of the cost to decommission their plants. The annual updates are part of the process for providing reasonable assurance that adequate funds for decommissioning will be available when needed.

Revision 20 of NUREG-1307, “Report on Waste Burial Charges: Changes in Decommissioning Waste Disposal Costs at Low-Level Waste Burial Facilities,” modifies the previous revision to this report issued in February 2023 (ADAMS Accession No. ML23044A207) and incorporates updates to the labor, energy, and waste burial escalation factors of the NRC minimum decommissioning fund formula. Due to moderately lower low-level waste (LLW) burial charges at two of the nation's four LLW disposal facilities, to which a majority of licensees are anticipated to dispose some portion of their LLW, and slightly to moderately higher charges at the remaining two facilities, to which a small number of licensees are anticipated to dispose of their LLW, the minimum decommissioning fund formula amounts calculated by licensees, based on revised LLW burial factors presented in this report, will likely reflect minimum decommissioning fund requirements that are lower, on average, when compared to those previously reported by licensees in 2023.

II. Additional Information

The NRC published a notice in the Federal Register on November 19, 2024 (89 FR 91436) requesting public comment on draft NUREG-1307, Revision 20. The public comment period closed on December 19, 2024. The NRC received two public comments. The public comments and the NRC staff's responses are presented in a comment resolution matrix available in ADAMS under Accession No. ML25016A004. The staff considered the public comments received on the draft document in preparing final NUREG-1307, Revision 20.

Dated: February 11, 2025.
For the Nuclear Regulatory Commission.
Frederick R. Miller,
Chief, Financial Assessment Branch, Division of Rulemaking, Environment, and Financial Support, Office of Nuclear Material Safety and Safeguards.

[FR Doc. 2025-02701 Filed 2-14-25; 8:45 am]

BILLING CODE 7590-01-P